ENVIRONMENTAL PROTECTION AGENCY

[EPA-HQ-OPPT-2021-0303; 9890-01-OMS]

Information Collection Request Submitted to OMB for Review and Approval; Comment Request; Methylene Chloride; Regulation of Paint and Coating Removal for Consumer Use Under TSCA Section 6(a) (Renewal)

AGENCY: Environmental Protection Agency (EPA).

ACTION: Notice.

SUMMARY: The Environmental Protection Agency (EPA) has submitted an information collection request (ICR), “Methylene Chloride; Regulation of Paint and Coating Removal for Consumer Use under Toxic Substances Control Act (TSCA) Section 6(a),” (EPA ICR Number 2556.03, OMB Control Number 2070-0204) to the Office of Management and Budget (OMB) for review and approval in accordance with the Paperwork Reduction Act. This is a proposed extension of the ICR, which is currently approved through May 31, 2022. Public comment were previously requested via the Federal Register on August 31, 2021 during a 60-day comment period. This notice allows for an additional 30 days for public comment. A fuller description of the ICR is given below, including its estimated burden and cost to the public. An agency may not conduct or sponsor and a person is not required to respond to a collection of information unless it displays a currently valid OMB control number.

DATES: Comments must be received on or before June 27, 2022.

ADDRESSES: Submit your comments to EPA, referencing Docket ID No.: EPA-HQ-OPPT-2021-0303, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch (7101M), Office of Chemical Safety and Pollution Prevention, Environmental Protection Agency, 1200 Pennsylvania Ave. NW, Washington, DC 20460-0001; telephone number: (202) 566-1204; email address: sleasman.katherine@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The manufacture, processing, and distribution in commerce of methylene chloride for consumer paint and coating removal is prohibited under EPA regulations in 40 CFR part 751, as promulgated under the TSCA, 15. U.S.C. 2601 et seq. Manufacturers, processors, or distributers in commerce for non-prohibited uses are required to notify companies to whom methylene chloride is shipped of the prohibitions under 40 CFR 751 through the Safety Data Sheet (SDS). It also requires manufacturers, processors, or distributers in commerce (except for retailers) to retain methylene chloride in one location at the headquarters of the company, or the facility for which the records were generated, documentation showing: (i) The name, address, contact, and telephone number of companies to whom methylene chloride was shipped; (ii) a copy of the notification provided to companies to whom the methylene chloride was shipped; and (iii) the amount of methylene chloride shipped. This information must be retained for three years from the date of shipment. EPA established these requirements under TSCA Section 6(a) in response to a final determination that the consumer use of paint and coating removal presents an unreasonable risk of injury to health. This ICR consists of the downstream notification of the prohibitions and the recordkeeping requirement.

Form Numbers: None.

Respondents/affected Entities: Respondents affected by this activity may include those that engage in the manufacture, processing and distribution in commerce of methylene chloride for consumer paint and coating removal. The ICR provides a list of the North American Industrial Classification System codes that might apply to entities that may be affected by the activities described in this ICR.

Respondent's obligation to respond: Mandatory per 40 CFR 751 and TSCA section 6(a).

Frequency of response: On occasion.

Estimated number of potential respondents: 14 (total).

Total Estimated burden: 7 hours (per year). Burden is defined at 5 CFR 1320.03(b).

Total estimated cost: $298 (per year), which includes no annualized capital or operation & maintenance costs.

Changes in the estimates: There is a decrease in the estimated total annual burden and costs compared with that identified in the ICR currently approved by OMB. Burden decreased from 69 hours to 7 hours. This decrease is due a decrease in the number of respondents.

Courtney Kerwin,
Director, Regulatory Support Division, Office of Mission Support.

[FR Doc. 2022-11353 Filed 5-25-22; 8:45 am]

BILLING CODE 6560-50-P